DEPARTMENT OF COMMERCE

National Oceanic and Atmospheric Administration

Federal Consistency Appeal by Foothill/Eastern Transportation Corridor Agency and Its Board of Directors

AGENCY: National Oceanic and Atmospheric Administration (NOAA), Department of Commerce (Commerce).

ACTION: Notice of closure—administrative appeal decision record.

SUMMARY: This announcement provides notice that the decision record has been closed for an administrative appeal filed with the Department of Commerce by Foothill/Eastern Transportation Corridor Agency and its Board of Directors (collectively, TCA).

DATES: The decision record for TCA's administrative appeal was closed on October 24, 2008.

ADDRESSES: Materials from the appeal record will be available at the NOAA Office of General Counsel for Ocean Services, 1305 East-West Highway, Room 6111, Silver Spring, MD 20910 and on the following Web site: http://www.ogc.doc.gov/czma.htm.

FOR FURTHER INFORMATION CONTACT: Thomas Street, Attorney-Advisor, NOAA Office of the General Counsel, 301-713-2967, gcos.inquiries@noaa.gov or Stephanie Campbell, Attorney-Advisor, NOAA Office of the General Counsel, 301-713-2967, gcos.inquiries@noaa.gov.

SUPPLEMENTARY INFORMATION: On February 15, 2008, TCA filed notice of an appeal with the Secretary of Commerce (Secretary), pursuant to the Coastal Zone Management Act of 1972 (CZMA), 16 U.S.C. 1451 et seq., and implementing regulations found at 15 CFR part 930, Subpart H. TCA appealed an objection to its construction of an extension to California State Route 241 in northern San Diego and southern Orange Counties, California.

Decisions for CZMA administrative appeals are based on information contained in a decision record. Under the CZMA, the decision record must close no later than 220 days after notice of the appeal was first published in the Federal Register. See 16 U.S.C. 1465. Consistent with this deadline, the TCA appeal decision record was closed on October 24, 2008. No further information, briefs or comments will be considered in deciding this appeal.

Additional information about the TCA appeal and the CZMA appeals process is available from the Department of Commerce CZMA appeals Web site http://www.ogc.doc.gov/czma.htm.

(Federal Domestic Assistance Catalog No. 11.419 Coastal Zone Management Program Assistance.)

Dated: October 29, 2008.
Joel La Bissonniere,
Assistant General Counsel for Ocean Services.

[FR Doc. E8-26280 Filed 11-3-08; 8:45 am]

BILLING CODE 3510-08-P